ENVIRONMENTAL PROTECTION AGENCY

[FRL-8209-3]

Meeting of the Mobile Sources Technical Review Subcommittee

AGENCY: Environmental Protection Agency (EPA).

ACTION: Notice of meeting.

SUMMARY: Pursuant to the Federal Advisory Committee Act, Public Law 92-463, notice is hereby given that the Mobile Sources Technical Review Subcommittee (MSTRS) will meet on October 4, 2006. This is an open meeting. The meeting will include discussion of current topics and presentations about activities being conducted by EPA's Office of Transportation and Air Quality. The preliminary agenda for the meeting, as well as the minutes from the previous (March 2006) meeting will be posted on the Subcommittee's Web site: http://www.epa.gov/air/caaac/mobile_sources.html. MSTRS listserver subscribers will receive notification when the agenda is available on the Subcommittee Web site. To subscribe to the MSTRS listserver, go to https://lists.epa.gov/cgi-bin/lyris.pl?enter=mstrs. The site contains instructions and prompts for subscribing to the listserver service.

DATES: Wednesday, October 4, 2006 from 9 a.m. to 5 p.m. Registration begins at 8:30 a.m.

ADDRESSES: The meeting will be held at the Holiday Inn Rosslyn/Key Bridge, 1900 North Fort Myer Drive, Arlington, VA. Phone 703-807-2000. The hotel is located one block from the Rosslyn Metro Station, and is approximately 15 minutes from Washington National Airport by taxi.

FOR FURTHER INFORMATION CONTACT: For technical information: John Guy, Designated Federal Officer, Transportation and Regional Programs Division, Mailcode 6406J, U.S. EPA, 1200 Pennsylvania Ave. NW., Washington, DC 20460; Ph: 202-343-9276; e-mail, guy.john@epa.gov.

For logistical and administrative information: Ms. Patty Truesdale, U.S. EPA, Transportation and Regional Programs Division, Mailcode 6406J, U.S. EPA, 1200 Pennsylvania Ave., NW., Washington, DC 20460; 202-343-9401.

Background on the work of the Subcommittee is available at: http://www.epa.gov/air/caaac/mobile_sources.html.

Individuals or organizations wishing to provide comments to the Subcommittee should submit them to Mr. Guy at the address above by September 26, 2006. The Subcommittee expects that public statements presented at its meetings will not be repetitive of previously submitted oral or written statements.

SUPPLEMENTARY INFORMATION: During the meeting, the Subcommittee may also hear progress reports from some of its workgroups as well as updates and announcements on activities of general interest to attendees.

Dated: August 7, 2006.
Christopher Grundler,
Acting Director, Office of Transportation and Air Quality.

[FR Doc. E6-13156 Filed 8-10-06; 8:45 am]

BILLING CODE 6560-50-P